DEPARTMENT OF COMMERCE

International Trade Administration

[A-570-073]

Common Alloy Aluminum Sheet From the People's Republic of China: Postponement of Preliminary Determination of the Less-Than-Fair-Value Investigation

AGENCY: Enforcement and Compliance, International Trade Administration, Department of Commerce.

DATES: Effective April 3, 2018.

FOR FURTHER INFORMATION CONTACT: Tom Bellhouse at (202) 482-2057 or Deborah Scott at (202) 482-2657, AD/CVD Operations, Enforcement and Compliance, International Trade Administration, Department of Commerce, 1401 Constitution Avenue NW, Washington, DC 20230.

SUPPLEMENTARY INFORMATION:

Background

On November 28, 2017, the Department of Commerce (Commerce) initiated an antidumping duty investigation concerning imports of common alloy aluminum sheet (aluminum sheet) from the People's Republic of China.¹ The notice of initiation stated that Commerce, in accordance with section 733(b)(1)(A) of the Tariff Act of 1930, as amended (the Act), and 19 CFR 351.205(b)(1), would issue its preliminary determination no later than 140 days after the date of the initiation, unless postponed.² Commerce has exercised its discretion to toll deadlines for the duration of the closure of the Federal Government from January 20 through 22, 2018. If the new deadline falls on a non-business day, in accordance with Commerce's practice, the deadline will become the next business day.³ The current deadline for the preliminary determination of this investigation is no later than April 20, 2018.

¹ See Common Alloy Aluminum Sheet from the People's Republic of China: Initiation of Less-Than-Fair-Value Investigation, 82 FR 57214 (November 28, 2017) (Initiation Notice); see also Memorandum, “Initiation of the Antidumping Duty Investigation of Common Alloy Aluminum Sheet from the People's Republic of China,” dated November 28, 2017 (Initiation Memorandum).

² Id., 82 FR at 57217.

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Postponement of Preliminary Determination

On March 19, 2018, the Aluminum Association Common Alloy Sheet Trade Enforcement Working Group (the Domestic Industry), made a request for a 50-day postponement of the preliminary determination in this investigation to provide Commerce with sufficient time to review submissions and request supplemental information, in order to arrive at the most accurate results possible.⁴ No other parties commented.

⁴ See Letter, “Common Alloy Aluminum Sheet from the People's Republic of China—Domestic Industry Request for Postponement of the Preliminary Determination,” dated March 19, 2018.

Pursuant to section 733(c)(1)(B) of the Act and 19 CFR 351.205(b)(2), Commerce has the authority to extend the deadline for the preliminary determination in this investigation. Because Commerce has the support of cooperating parties and has deemed the investigation to be extraordinarily complicated, Commerce is postponing the deadline for the preliminary determination by 50 days, until June 11, 2018, in accordance with section 733(c)(1)(B) of the Act and 19 CFR 351.205(b)(2).⁵

⁵ This date reflects the next business day after the deadline of June 9, 2018. See Notice of Clarification: Application of “Next Business Day” Rule for Administrative Determination Deadlines Pursuant to the Tariff Act of 1930, As Amended, 70 FR 24533 (May 10, 2005).

In accordance with section 735(a)(1) of the Act, the deadline for the final determination of this investigation will continue to be 75 days after the date of the preliminary determination, unless postponed at a later date.

This notice is issued and published pursuant to section 733(c)(2) of the Act and 19 CFR 351.205(f)(1).

Dated: March 29, 2018.
P. Lee Smith,
Deputy Assistant Secretary for Policy and Negotiations.

[FR Doc. 2018-06723 Filed 4-2-18; 8:45 am]

BILLING CODE 3510-DS-P